DEPARTMENT OF TRANSPORTATION

Federal Aviation Administration (FAA)

[Docket No. FAA-2004-16944]

Operating Limitations at Chicago O'Hare International Airport; Extension of Request for Written Information

ACTION: Extension of request for information.

SUMMARY: This action extends the period during which interested persons may submit written information, including data and views, in response to a notice that the FAA published on August 2, 2004. In that document, the FAA announced that it would hold a meeting beginning on August 4 to discuss flight reductions at Chicago's O'Hare International Airport (O'Hare) to reduce overscheduling and flight delays during peak hours of operation at that airport. In addition, the notice invited interested persons to submit written information on such schedule reductions. Since the meeting commenced on August 4, the FAA has continued discussions with air carriers that attended the meeting. The FAA is extending the period for filing written information to afford interested parties additional time to submit information while the discussions continue.

DATES: Written information must be received on or before 12 p.m. on August 13, 2004.

ADDRESSES: You may send written information, identified by docket number FAA-2004-16944, by any of the following methods:

• DOT Docket Web site: Go to http://dms.dot.gov and follow the instructions for submitting information electronically.

• Fax: 1-202-493-2251.

• Mail: Docket Management System; U.S. Department of Transportation, 400 Seventh Street, SW., Nassif Building, Room PL-401, Washington, DC 20590-001. If sent by mail, information is to be submitted in two copies. Persons wishing to receive confirmation of receipt of their written submission should include a self-addressed stamped postcard.

• Hand Delivery: Docket Management System, Room PL-401 on the plaza level of the Nassif Building, 400 Seventh Street, SW., Washington, DC, between 9 a.m. and 5 p.m., Monday through Friday, except Federal holidays.

For more information on this proceeding, see the SUPPLEMENTARY INFORMATION section of this document.

Instructions: You must include the agency name and docket number FAA-2004-16944 for this notice at the beginning of the information that you submit. Note that the information received will be posted without change to http://dms.dot.gov, including any personal information provided.

Docket: To read background documents or review information received, go to http://dms.dot.gov at any time or to Room PL-401 on the plaza level of the Nassif Building, 400 Seventh Street, SW., Washington, DC, between 9 a.m. and 5 p.m., Monday through Friday, except Federal holidays.

FOR FURTHER INFORMATION CONTACT: Gerry Shakley, System Operations, Air Traffic Organization, Federal Aviation Administration, 800 Independence Ave., SW., Washington, DC 20591; telephone (202) 267-9424, facsimile: (202) 267-7277; e-mail: gerry.shakley@faa.gov.

SUPPLEMENTARY INFORMATION:

Background

On July 28, 2004, the Federal Aviation Administration (FAA) issued a notice announcing that it would conduct a meeting to discuss flight reductions at O'Hare to reduce over scheduling and flight delays during peak hours at the airport (69 FR 46201; August 2, 2004). The FAA also invited the submission of written information from interested person on such schedule reductions. The FAA plans to issue a decision on delay reductions in a final order. The meeting began on August 4 and is continuing. It was open to all scheduled carriers, regardless of whether they currently serve O'Hare. The FAA originally solicited written information filed on or before August 11, 2004.

Extension of Request for Information

Discussions with the air carriers regarding their scheduled operations at O'Hare are continuing. The FAA designated a short period for submitting information, as the FAA has previously indicated its intentions to address this issue as soon as possible to accommodate the implementation of the air carriers' November 2004 schedules. Given that the discussions are continuing, the FAA finds that it would benefit the public and the agency to keep the public docket open for as long as possible to afford interested persons more time to submit written information.

The FAA will provide actual notice to all parties that attended the meeting. The FAA has determined that extension of the period for submitting written information is consistent with the public interest, and that good cause exists for taking this action. Accordingly, the period is extended until 12 p.m. on August 13, 2004.

We will consider all information we receive on or before the extended closing date. We will consider information filed late if it is possible to do so without incurring expense or delay.

Public Availability and Confidentiality of Information

Except as provided below, we will file in the docket without change all information we receive. The docket is available for public inspection before and after its closing date. If you wish to review the docket in person, go to the address in the ADDRESSES section of this preamble between 9 a.m. and 5 p.m., Monday through Friday, except Federal holidays. You may also review the docket via the Internet at the Web address in the ADDRESSES section.

Proprietary or Confidential Business Information: As a result of the written information's availability to the public, do not file with the docket information that you consider to be proprietary or confidential business information. Send or deliver this information directly to the person identified in the FOR FURTHER INFORMATION CONTACT section of this document. In addition, please mark the information that you consider proprietary or confidential. If you send the information on a disk or CD-ROM, mark the outside of the disk or CD ROM and also identify electronically within the disk or CD-ROM the specific information that is proprietary or confidential.

Under 14 CFR 11.35(b), when we are aware of proprietary information filed with a submission, we do not place it in the docket. We hold it in a separate file to which the public does not have access, and place a note in the docket that we have received it. If we receive a request to examine or copy this information, we treat it as any other request under the Freedom of Information Act (5 U.S.C. 552). We process such a request under the DOT procedures found in 49 CFR part 7.

Privacy Act: Using the search function of our docket Web site, anyone can find and read the information received in any docket, including the name of the individual submitting the information or signing on behalf of a submitting organization. You may review DOT's complete Privacy Act Statement in the Federal Register published on April 11, 2000, (65 FR 19477-78) or you may visit http://dms.dot.gov.

Issued in Washington, DC, on August 11, 2004.
Andrew B. Steinberg,
Chief Counsel.

[FR Doc. 04-18722 Filed 8-11-04; 4:48 am]

BILLING CODE 4910-13-M